AGENCY FOR INTERNATIONAL DEVELOPMENT

Agency Information Collection Activities; Submission to the Office of Management and Budget for Review and Approval; Comment Request; Contractor Form for Contract With an Individual for Personal Services

AGENCY: Bureau for Management, Office of Acquisition and Assistance, PSC Rules and Policy Division (M/OAA/PSC), Agency for International Development (USAID).

ACTION: Notice of information collection.

SUMMARY: In accordance with the Paperwork Reduction Act of 1995, M/OAA/PSC has proposed revisions to form AID 309-1 Contract With An Individual For Personal Services. The purpose of this notice is to allow 30 days for public comment preceding submission of the collection to OMB.

DATES: Interested persons are invited to submit comments within 30 days of this notice.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Richard E. Spencer, Acting Division Chief, M/OAA/PSC at (202) 916-2629 or pscpolicymailbox@usaid.gov.

SUPPLEMENTARY INFORMATION: A proposed update to the existing form is available for public comment before M/OAA/PSC will decide to publish the revised form. The authorities for the collection of information are: Foreign Assistance Act, Public Law 87-165, as amended; 48 CFR 37.104, Personal services contracts; and 48 CFR ch. 7, app. D, Direct USAID Contracts with a U.S. Citizen or a U.S. Resident Alien for Personal Services Abroad; and 48 CFR ch. 7, App. J, Direct USAID Contracts with a Cooperating Country National and with a Third Country National for Personal Services Abroad.

Richard E. Spencer,
Acting Division Chief, M/OAA/PSC, USAID.

[FR Doc. 2023-24209 Filed 11-1-23; 8:45 am]

BILLING CODE 6116-01-P